DEPARTMENT OF HOUSING AND URBAN DEVELOPMENT

[Docket No. FR-4572-D-24]

Redelegation of Authority to the HUD Departmental Enforcement Center Regarding Civil Money Penalty Actions for Certain Violations in Specified Multifamily Housing Programs

AGENCY: Office of the General Counsel, HUD.

ACTION: Notice of redelegation of authority.

SUMMARY: Elsewhere in today's Federal Register is a notice of a delegation from the Assistant Secretary for Housing-Federal Housing Commissioner to the General Counsel of HUD to take civil money penalty actions against multifamily mortgagors and Section 202 mortgagors for certain violations, along with the power to redelegate that authority. By this action, the General Counsel is redelegating that authority to the Director of the HUD Departmental Enforcement Center (DEC) and, concurrently, to the Directors of the five DEC Satellite Offices.

EFFECTIVE DATE: September 12, 2002.

FOR FURTHER INFORMATION CONTACT: Herbert L. Goldblatt, Deputy Chief Counsel, Program Enforcement Branch, Departmental Enforcement Center, Department of Housing and Urban Development, Portals Building, 1250 Maryland Avenue, Suite 200, Washington, DC 20024, (202) 708-3856. This is not a toll-free number. For the hearing-speech-impaired, the number may be accessed via TTY by calling the Federal Information Relay Service at 1-800-877-8399.

SUPPLEMENTARY INFORMATION: HUD regulations at 24 CFR 30.45 authorize the Assistant Secretary for Housing-Federal Housing Commissioner, or the Assistant Secretary's designee, to take a civil money penalty action against any mortgagor of a multifamily property with a mortgage insured, co-insured or held by the Secretary pursuant to Title II of the National Housing Act, or mortgagors of properties with mortgages held by the Secretary pursuant to Section 202 of the Housing Act of 1959. Section 30.45 refers to the statutory provisions enumerating the violations for which the Assistant Secretary for Housing-Federal Housing Commissioner may impose a penalty upon those mortgagors. See 12 U.S.C. 1701q-1(b) and (c), and 12 U.S.C. 1735f-15(b) and (c). On September 20, 2000, the Assistant Secretary for Housing-Federal Housing Commissioner retained and delegated to the Director of the DEC the authority to take civil money penalty actions with regard to a mortgagor's failure to timely file an annual financial statement, one of the statutorily enumerated violations. The delegation was published at 65 FR 64981 on October 31, 2000. On January 16, 2001, the Assistant Secretary for Housing-Federal Housing Commissioner retained and delegated to the Director of the DEC the authority to take civil money penalty actions with regard to the remaining statutorily enumerated violations. This delegation has not yet been published in the Federal Register. Neither the September 20, 2000, delegation, nor the January 16, 2001, delegation permitted the Director of the DEC to further redelegate the authority.

The DEC is responsible for carrying out a wide range of HUD enforcement activities. Because the DEC has been recently placed under the Office of the General Counsel, the Assistant Secretary for Housing-Federal Housing Commissioner retained and delegated the enforcement authority in 24 CFR 30.45 to the General Counsel of HUD on September 12, 2002, notice of which is published in today's Federal Register. That delegation allows the General Counsel to redelegate the authority. The General Counsel is, in turn, redelegating that authority to the Director of the DEC and, concurrently, to the Directors of the five DEC Satellite Offices.

Accordingly, the General Counsel hereby retains and redelegates authority as follows:

Section A. Redelegation of Authority: The Director of the DEC and the Directors of the five DEC Satellite Offices are hereby redelegated the authority to take all actions permitted under 24 CFR 30.45. The authority redelegated does not include authority to waive any regulations issued under the authority of the Assistant Secretary for Housing-Federal Housing Commissioner.

Section B. Authority to Redelegate: The Director of the DEC and the Directors of the five DEC Satellite Offices are not authorized to redelegate the authority described in Section A.

Section C. Revocation of Authority: The General Counsel may revoke the authority authorized herein, in whole or part, at any time.

Authority: Section 30.45 of Title 24 of the Code of Federal Regulations.

Dated: September 12, 2002.
Richard A. Hauser,
General Counsel.

[FR Doc. 02-33042 Filed 12-30-02; 8:45 am]

BILLING CODE 4210-67-P